DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 20, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permit is published in accordance with Part 107 of the Federal hazardous materials transportation law (49 U.S.C. 5117(b); 49 CFR 1.53(b)).

Issued in Washington, DC, on June 13, 2007.
Delmer Billings,
Director, Special Permits & Approvals Programs, Office of Hazardous Materials, Special Permits & Approvals.

Application No. | Docket No. | Applicant | Regulations(s) affected | Nature of special permits thereof;
NEW SPECIAL PERMITS
14517-N |  | The Children's Hospital Denver, CO | 49 CFR 173.196; 178.609 | To authorize the one-way transportation in commerce of infectious substances other than Category A in specially designed packaging (freezers). (mode 1)
14519-N |  | Commordore Advanced Sciences, Inc. Richland, WA | 49 CFR 173.244 | To authorize the one-time, one-way transportation in commerce of solidified sodium metal (UN1428) in alternative packaging from Mobile, Alabama to Oakridge, Tennessee. (modes 1,2)
14520-N |  | PPG Industries Monroeville, PA | 49 CFR 172.203(a),173.26 and 179.13 | To authorize the transportation in commerce of Class 8 hazardous materials in DOT specification 111A100W6 tank car tanks that exceed the maximum allowable gross weight on rail (263,000 lbs.). (mode 2)
14522-N |  | Toyota Motor Sales, U.S.A., Inc. Torrance,CA | 49 CFR Part 172 and Part 173 | To authorize the transportation in commerce of certain Class 8 and 9 hazardous materials across a public road within Toyota's facility to be transported as non-regulated. (mode 1)
14523-N |  | Pacific Bio-Material Management, Inc. Fresno, CA | 49 CFR 173.196(b); 173.196(e)(2)(ii) | To authorize the transportation in commerce of certain infectious substances in specially designed packaging (freezers). (mode 1)
14524-N |  | Oxia U.S. Ltd. Las Vegas, NV | 49 CFR 173.306(a)(1) | To authorize the transportation in commerce of a DOT Specification 3AL cylinder with a containing 90% oxygen and 10% nitrogen as consumer commodity when the capacity does not exceed 5.2 ounces transported by motor vehicle. (mode 1)
14525-N |  | Alcoa Inc. Pittsburgh, PA | 49 CFR Parts 171-180 except shipping papers and ID number marking | To authorize the transportation in commerce of certain used diatomaceus earth filter material not subject to the Hazardous Materials Regulations, except for shipping papers and certain marking requirements when transported by motor vehicle. (mode 1)
14529-N |  | EnviroClean Management Services, Inc. Dallas, TX | 49 CFR 172.301(c); 173.197(d) | To authorize the transportation in commerce of regulated medical waste in containers that are not leak-proof per 173.197(d). (mode 1)

[FR Doc. 07-3021 Filed 6-19-07; 8:45 am]

BILLING CODE 4909-60-M